DEPARTMENT OF ENERGY

Federal Energy Regulatory Commission

[Docket No. RP03-409-000]

Gulfstream Natural Gas System, L.C.C.; Notice of Technical Conference

July 25, 2003.

The Commission, in its order issued May 30, 2003,¹ directed that a technical conference be held to investigate Gulfstream's proposal to increase its percentage of gas for Transporter's Use, its plan to defer implementation of its System Balancing Adjustment charge, and to address the concerns raised in the protests of the parties.

¹ Gulfstream Natural Gas System, L.L.C., 103 FERC & 61,264 (2003).

Take notice that a technical conference will be held on Wednesday August 13, 2003, at 10 a.m., in a room to be designated at the offices of the Federal Energy Regulatory Commission, 888 First Street, NE., Washington, DC 20426.

All interested parties and staff are permitted to attend.

Magalie R. Salas,
Secretary.

[FR Doc. 03-19603 Filed 7-31-03; 8:45 am]

BILLING CODE 6717-01-P